DEPARTMENT OF AGRICULTURE

Rural Utilities Service

Weather Radio Transmitter Grant Program

AGENCY: Rural Utilities Service, USDA.

ACTION: Notice.

SUMMARY: On April 4, 2001, the Rural Utilities Service (RUS) published a Notice of Funds Availability (NOFA) in the Federal Register (66 FR 17857, April 4, 2001) announcing a new grant program, and the availability of grant funds under this program, to finance the installation of new transmitters to extend the coverage of the National Oceanic and Atmospheric Administration's Weather Radio system (NOAA Weather Radio) in rural America. Included in the NOFA was a list of proposed NOAA Weather Radio transmitter sites that would be eligible for funding.

The primary purpose of this notice is to provide an updated listing of the proposed NOAA Weather Radio transmitter sites. An applicant for a grant under this program may apply for a site included in this updated listing or in the original listing published April 4, 2001. An additional purpose of this notice is to provide a clarification of how to calculate the maximum allowable grant amount. Finally, RUS emphasizes again that it strongly encourages all grant applicants to consult and coordinate with the National Weather Service prior to submitting a completed application.

Further details on the application process and eligibility are available in the NOFA in the April 4, 2001, Federal Register (66 FR 17857).

DATES: Applications for grants will be accepted until grants totaling $5 million in appropriations have been made.

FOR FURTHER INFORMATION CONTACT: Roberta D. Purcell, Assistant Administrator, Telecommunications Program, Rural Utilities Service, STOP 1590, 1400 Independence Avenue, SW., Washington, DC 20250-1590, Telephone (202) 720-9554, Facsimile (202) 720-0810.

SUPPLEMENTARY INFORMATION:

Clarification of Grant Amount

Some grant applicants have been confused about how to calculate the maximum amount of grant allowed. The following is provided to try to eliminate that confusion. The percentage of total project costs eligible for grant funds is based on the population of the site and the per capita income of the county where the site is located. Grant assistance will be provided on a graduated scale with sparser, lower income communities eligible for a higher proportion of total project costs to be funded by a grant (i.e., 75, 65, or 55 percent). An applicant should base the computation of the eligible grant amount on the total project cost, which includes the value of the matching funds and in-kind facilities, such as tower space, building space, and electric power. The grant can usually cover all eligible equipment and installation costs, up to $80,000, if sufficient matching funds are provided. Note, however, that RUS grant funds cannot exceed the actual equipment and installation costs.

For example:

eligible equipment and installation costs = $60,000

matching funds = 84,000

(tower space for 15 years = $54,000)

(building space for 15 years = $18,000)

(electric power for 15 years = $12,000)

total project costs (equipment & match) = $144,000

(project cost of $144,000 × required 75% = $108,000)

However, the grant is limited to the lesser of $80,000 (maximum grant amount) or the actual equipment and installation costs. Therefore, in this case the grant would be for $60,000.

Updated List

An area's need for a new NOAA Weather Radio transmitter is determined by its inherent risk of hazardous weather and the absence of adequate coverage by an existing transmitter. RUS, in consultation with the National Weather Service, has developed the attached updated list of proposed transmitter sites that will be eligible for funding under the NOFA published in the April 4, 2001, Federal Register.

RUS will continue to update its list from time to time and will publish updates in the Federal Register.

Dated: October 10, 2001.
Roberta D. Purcell,
Acting Administrator, Rural Utilities Service.

BILLING CODE 3410-15-P

[FR Doc. 01-25947 Filed 10-15-01; 8:45 am]

BILLING CODE 3410-15-C